DEPARTMENT OF THE TREASURY

Internal Revenue Service

26 CFR Part 1

[Docket No. REG-126519-11]

RIN 1545-BK41

Determining the Amount of Taxes Paid for Purposes of the Foreign Tax Credit; Correction

Correction

Proposed Rule document 2011-22067 was inadvertently published in the Rules section of the issue of August 30, 2011, beginning on page 53818. It should have appeared in the Proposed Rules section.

[FR Doc. 2011-22523 Filed 8-31-11; 8:45 am]

BILLING CODE 1505-01-D